DEPARTMENT OF HOMELAND SECURITY

Federal Emergency Management Agency

[Docket ID FEMA-2013-0002; Internal Agency Docket No. FEMA-B-1348]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 27, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1348, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Fayette County, Indiana, and Incorporated Areas
Maps Available for Inspection Online at: http://www.fema.gov/preliminaryfloodhazarddata
City of Connersville | Fayette County Area Plan Commission, Courthouse Annex, 111 West Fourth Street, Connersville, IN 47331.
Unincorporated Areas of Fayette County | Fayette County Area Plan Commission, Courthouse Annex, 111 West Fourth Street, Connersville, IN 47331.
Henry County, Indiana, and Incorporated Areas
Maps Available for Inspection Online at: http://www.fema.gov/preliminaryfloodhazarddata
City of New Castle | City Hall, 227 North Main Street, New Castle, IN 47362.
Town of Dunreith | Henry County Planning Commission, 101 South Main Street, New Castle, IN 47362.
Town of Greensboro | Town Hall, 130 North 525, Greensboro, IN 47344.
Town of Kennard | Kennard Town Hall, 100 North Main Street, Kennard, IN 47351.
Town of Lewisville | Henry County Planning Commission, 101 South Main Street, New Castle, IN 47362.
Town of Middletown | Henry County Planning Commission, 101 South Main Street, New Castle, IN 47362.
Town of Mooreland | Henry County Planning Commission, 101 South Main Street, New Castle, IN 47362.
Unincorporated Areas of Henry County | Henry County Planning Commission, 101 South Main Street, New Castle, IN 47362.
Howard County, Indiana, and Incorporated Areas
Maps Available for Inspection Online at: http://www.fema.gov/preliminaryfloodhazarddata
City of Kokomo | Kokomo Planning Commision, 120 East Mulberry Street, Suite 114, Kokomo, IN 46901.
Town of Greentown | Town Hall, 112 North Meridian Street, Greentown, IN 46936.
Town of Russiaville | Town Hall, 250 North Union Street, Russiaville, IN 46979.
Unincorporated Areas of Howard County | Kokomo Planning Commission, 120 East Mulberry Street, Suite 114, Kokomo, IN 46901.
Jefferson County, Indiana, and Incorporated Areas
Maps Available for Inspection Online at: http://www.fema.gov/preliminaryfloodhazarddata
City of Madison | City Hall, Plan Commission Office, 101 West Main Street, Madison, IN 47250.
Town of Brooksburg | County Courthouse, Room 204, 300 East Main Street, Madison, IN 47250.
Town of Hanover | Town Hall, 11 North Madison Avenue, Hanover, IN 47243.
Unincorporated Areas of Jefferson County | County Courthouse, Room 204, 300 East Main Street, Madison, IN 47250.
Jennings County, Indiana, and Incorporated Areas
Maps Available for Inspection Online at: http://www.fema.gov/preliminaryfloodhazarddata
City of North Vernon | Jennings County Area Plan Commission, 200 East Brown Street, Vernon, IN 47282.
Town of Vernon | Jennings County Area Plan Commission, 200 East Brown Street, Vernon, IN 47282.
Unincorporated Areas of Jennings County | Jennings County Area Plan Commission, 200 East Brown Street, Vernon, IN 47282.
Noble County, Indiana, and Incorporated Areas
Maps Available for Inspection Online at: http://www.fema.gov/preliminaryfloodhazarddata
City of Kendallville | City Hall, 234 South Main Street, Kendallville, IN 46755.
City of Ligonier | City Hall, 301 South Cavin Street, Suite 2, Ligonier, IN 46767.
Town of Albion | Municipal Building, 211 East Park Drive, Albion, IN 46701.
Town of Avilla | Town Hall, 108 South Main Street, Avilla, IN 46710.
Town of Rome City | Town Hall, 402 Kelly Street, Rome City, IN 46784.
Unincorporated Areas of Noble County | Noble County South Complex, 2090 North State Road 9, Suite A, Albion, IN 46701.
Porter County, Indiana, and Incorporated Areas
Maps Available for Inspection Online at: http://www.fema.gov/preliminaryfloodhazarddata
City of Portage | Building Department, 6070 Central Avenue, Portage, IN 46368.
City of Valparaiso | Building Department, 166 West Lincolnway, Valparaiso, IN 46383.
Town of Beverly Shores | Town Hall, 500 South Broadway, Beverly Shores, IN 46301.
Town of Burns Harbor | Building Department, 1240 North Boo Road, Burns Harbor, IN 46304.
Town of Chesterton | Building Department, 726 Broadway, Chesterton, IN 46304.
Town of Dune Acres | Building Department, 1 East Road, Dune Acres, IN 46304.
Town of Hebron | Building Department, 106 East Sigler Street, Hebron, IN 46341.
Town of Ogden Dunes | Building Department, 115 Hillcrest Road, Ogden Dunes, IN 46368.
Town of Porter | Building Department, 303 Franklin Street, 2nd Floor, Porter, IN 46304.
Unincorporated Areas of Porter County | Porter County Plan Commission, 155 Indiana Avenue, Valparaiso, IN 46383.
Wayne County, Indiana, and Incorporated Areas
Maps Available for Inspection Online at: http://www.fema.gov/preliminaryfloodhazarddata
City of Richmond | City Hall, 50 North 5th Street, Richmond, IN 47374.
Town of Cambridge City | Town Hall, 127 North Foote Street, Cambridge City, IN 47327.
Town of Centerville | Municipal Building, 204 East Main Street, Centerville, IN 47330.
Town of Fountain City | Town Hall, 312 West Main Street, Fountain City, IN 47341.
Town of Greens Fork | Town Hall, 12 South Water Street, Greens Fork, IN 47345.
Town of Hagerstown | Town Hall, 49 East College Street, Hagerstown, IN 47346.
Town of Milton | Town Hall, 113 East Main Street, Milton, IN 47357.
Town of Mount Auburn | Town Hall, 1113 National Road, Mount Auburn, IN 47327.
Town of Spring Grove | Town Hall, 3 Sunset Drive, Richmond, IN 47374.
Unincorporated Areas of Wayne County | Office of Planning and Zoning, Wayne County Annex Building, 401 East Main Street, Richmond, IN 47374.
Ionia County, Michigan (All Jurisdictions)
Maps Available for Inspection Online at: http://www.fema.gov/preliminaryfloodhazarddata
City of Belding | City Hall, 120 South Pleasant Street, Belding, MI 48809.
City of Ionia | City Hall, 114 North Kidd Street, Ionia, MI 48846.
City of Portland | City Hall, 259 Kent Street, Portland, MI 48875.
Township of Berlin | Township of Berlin, 4947 Harwood Road, Ionia, MI 48846.
Township of Boston | Township Hall, 30 North Center Street, Saranac, MI 48881.
Township of Campbell | Township Hall, 331 South Main Street, Clarksville, MI 48815.
Township of Danby | Township Hall, 13122 Charlotte Highway, Sunfield, MI 48890.
Township of Easton | Township of Easton, 3960 Potters Road, Ionia, MI 48846.
Township of Ionia | Township Hall, 1042 East Washington Street, Ionia, MI 48846.
Township of Keene | Township Hall, 8505 Potters Road, Saranac, MI 48881.
Township of Lyons | Township Hall, 108 Prairie Street, Lyons, MI 48851.
Township of North Plains | Hubbardston Fire Station, 126 North Washington Street, Hubbardston, MI 48845.
Township of Odessa | Township Hall, 3862 Laurel Drive, Lake Odessa, MI 48849.
Township of Otisco | Township Hall, 9663 West Button Road, Belding, MI 48809.
Township of Portland | Township Hall, 773 East Grand River Avenue, Portland, MI 48875.
Village of Hubbardston | Village Hall, 305 Russell Street, Hubbardston, MI 48845.
Village of Lake Odessa | Page Memorial Building, 839 Fourth Avenue, Lake Odessa, MI 48849.
Village of Lyons | Village of Lyons Office, 212 Water Street, Lyons, MI 48851.
Village of Muir | Village Hall, 122 Superior Street, Muir, MI 48860.
Village of Saranac | Village Hall, 27 North Bridge Street, Saranac, MI 48881.
Mecosta County, Michigan (All Jurisdictions)
Maps Available for Inspection Online at: www.fema.gov/preliminaryfloodhazarddata
Charter Township of Green | Green Charter Township, 21431 Northland Drive, Paris, MI 49338.
City of Big Rapids | City Hall, 226 North Michigan Avenue, Big Rapids, MI 49307.
Township of Aetna | Aetna Township Hall, 196 North Cass Street, Morley, MI 49336.
Township of Austin | Austin Township Hall, 14132 Pierce Road, Stanwood, MI 49346.
Township of Big Rapids | Township Hall, 14212 Northland Drive, Big Rapids, MI 49307.
Township of Colfax | Colfax Township Hall, 14428 157th Avenue, Big Rapids, MI 49307.
Township of Deerfield | Deerfield Township Hall, 396 East Fourth Street, Morley, MI 49336.
Township of Fork | Fork Township Hall, 147 Northern Avenue, Barryton, MI 49305.
Township of Grant | Grant Township Hall, 21 Mile Road and 150th Avenue, Big Rapids, MI 49307.
Township of Mecosta | Mecosta Township Hall, 19729 11 Mile Road, Big Rapids, MI 49307.
Township of Morton | Morton Township Hall, 290 West Main Street, Mecosta, MI 49332.
Village of Barryton | Village Hall, 94 Angel, Barryton, MI 49305.
Village of Mecosta | Village Office, 115 West Main Street, Mecosta, MI 49332.
Village of Morley | Village Hall, 189 South Cass Street, Morley, MI 49336.
Newaygo County, Michigan (All Jurisdictions)
Maps Available for Inspection Online at: www.fema.gov/preliminaryfloodhazarddata
Charter Township of Sheridan | Township Hall, 6360 West Township Parkway, Fremont, MI 49412.
City of Fremont | City Hall, 101 East Main Street, Fremont, MI 49412.
City of Newaygo | City Hall, 28 North State Road, Newaygo, MI 49337.
City of White Cloud | City Hall, 12 North Charles Street, White Cloud, MI 49349.
Township of Ashland | Township Hall, 2019 West 120th Street, Grant, MI 49327.
Township of Bridgeton | Township Hall, 11830 South Warner Avenue, Grant, MI 49327.
Township of Brooks | Township Hall, 490 Quarterline Road, Newaygo, MI 49337.
Township of Croton | Township Hall, 5833 East Division Street, Newaygo, MI 49337.
Township of Dayton | Township Hall, 3215 South Stone Road, Fremont, MI 49412.
Township of Everett | Township Hall, 1516 East 8th Street, White Cloud, MI 49349.
Township of Garfield | Township Hall, 7910 South Bingham Avenue, Newaygo, MI 49337.
Township of Lilley | Multi Purpose Building, 10767 Prospect Avenue, Bitely, MI 49309.
Township of Lincoln | Township Hall, 1988 North Wisner Avenue, White Cloud, MI 49349.
Township of Merrill | Township Hall, 1585 West 11 Mile Road, Bitely, MI 49309.
Township of Sherman | Township Hall, 2168 South Wisner Avenue, Fremont, MI 49412.
Township of Wilcox | Township Hall, 1795 North Evergreen Drive, White Cloud, MI 49349.
Anoka County, Minnesota, and Incorporated Areas
Maps Available for Inspection Online at: www.fema.gov/preliminaryfloodhazarddata
City of Andover | City Hall, 1685 Crosstown Boulevard Northwest, Andover, MN 55304.
City of Anoka | City Hall, 2015 First Avenue North, Anoka, MN 55303.
City of Bethel | City Hall, 23820 Dewey Street, Bethel, MN 55005.
City of Blaine | City Hall Offices, 10801 Town Square Drive Northeast, Blaine, MN 55449.
City of Centerville | City Hall, 1880 Main Street, Centerville, MN 55038.
City of Circle Pines | City Hall, 200 Civic Heights Circle, Circle Pines, MN 55014.
City of Columbia Heights | City Hall, 590 40th Avenue Northeast, Columbia Heights, MN 55421.
City of Columbus | City Hall, 16319 Kettle River Boulevard, Columbus, MN 55025.
City of Coon Rapids | City Hall, 11155 Robinson Drive, Coon Rapids, MN 55433.
City of East Bethel | City Hall, 2241 221st Avenue Northeast, East Bethel, MN 55011.
City of Fridley | City Hall, 6431 University Avenue Northeast, Fridley, MN 55432.
City of Ham Lake | City Hall, 15544 Central Avenue Northeast, Ham Lake, MN 55304.
City of Lexington | City Hall, 9180 Lexington Avenue, Lexington, MN 55014.
City of Lino Lakes | City Hall, 600 Town Center Parkway, Lino Lakes, MN 55014.
City of Nowthen | City Offices, 8188 199th Avenue Northwest, Elk River, MN 55330.
City of Oak Grove | City Hall, 19900 Nightingale Street Northwest, Cedar, MN 55011.
City of Ramsey | Municipal Center, 7550 Sunwood Drive Northwest, Ramsey, MN 55303.
City of Spring Lake Park | City Hall, 1301 81st Avenue Northeast, Spring Lake Park, MN 55432.
City of St. Francis | City Hall, 23340 Cree Street Northwest, St. Francis, MN 55070.
Unincorporated Areas of Anoka County | Government Center, 2100 Third Avenue, 7th Floor, Anoka, MN 55303.
Wilkin County, Minnesota, and Incorporated Areas
Maps Available for Inspection Online at: http://www.fema.gov/preliminaryfloodhazarddata
City of Breckenridge | City Hall, 420 Nebraska Avenue, Breckenridge, MN 56520.
City of Campbell | Post Office, 510 5th Street, Campbell, MN 56522.
City of Doran | City Hall, 1106 4th Street, Doran, MN 56522.
City of Foxhome | City Hall, 303 Main Street, Foxhome, MN 56543.
City of Kent | City Hall, 204 Main Street, Kent, MN 56553.
City of Nashua | Fur House, 217 County Road 19, Nashua, MN 56565.
City of Wolverton | City Hall, 301 King of Trails Parkway, Wolverton, MN 56594.
Unincorporated Areas of Wilkin County | Wilkin County Courthouse, 300 5th Street South, Breckenridge, MN 56520.

(Catalog of Federal Domestic Assistance No. 97.022, “Flood Insurance.”)

Dated: November 20, 2013.
Roy E. Wright,
Deputy Associate Administrator for Mitigation, Department of Homeland Security, Federal Emergency Management Agency.

[FR Doc. 2013-31012 Filed 12-26-13; 8:45 am]

BILLING CODE 9110-12-P